DEPARTMENT OF ENERGY

Federal Energy Regulatory Commission

[Project No. 2299-082]

Turlock Irrigation District, Modesto Irrigation District; Notice of Application Tendered for Filing With the Commission and Establishing Procedural Schedule for Licensing and Deadline for Submission of Final Amendments

Take notice that the following hydroelectric application has been filed with the Commission and is available for public inspection.

a. Type of Application: New Major License.

b. Project No.: 2299-082.

c. Date Filed: April 28, 2014.

d. Applicant: Turlock Irrigation District and Modesto Irrigation District.

e. Name of Project: Don Pedro Hydroelectric Project.

f. Location: The Don Pedro Project facilities are located on the Tuolumne River in Tuolumne County, California. Portions of the Don Pedro Project occupy lands of the Bureau of Land Management Sierra Resource Management Unit.

g. Filed Pursuant to: Federal Power Act, 16 U.S.C. 791(a)-825(r).

h. Applicant Contact: Steven Boyd, Director of Water Resources, Turlock Irrigation District, P.O. Box 949, Turlock, California 95381, 209-883-8364 and Greg Dias, Project Manager, Modesto Irrigation District, P.O. Box 4060, Modesto, California 95352, 209-526-7566.

i. FERC Contact: Jim Hastreiter at (503) 552-2760 or james.hastreiter@ferc.gov.

j. This application is not ready for environmental analysis at this time.

k. The Project Description: The Don Pedro Project consists of the following existing facilities: (1) The 580-foot-high, 1,900-foot-long earth and rockfill dam with a gross storage capacity of 2,030,000 acre-feet, located on the Tuolumne River 54.8 miles upstream of its confluence with the San Joaquin River; (2) the 30-foot-high, 45-foot- wide, 135-foot-long gated spillway including three radial gates each 45-foot-wide by 30-foot-high; (2) the 995-foot-long ungated ogee spillway with a crest elevation of 830 feet; (3) the set of outlet works located at the left abutment of the dam consisting of three individual gate housings, each containing two 4-foot-by-5-foot slide gates; (4) the 3,500-foot-long concrete lined tunnel with a total hydraulic capacity of 7,500 cubic feet per second; (5) the 2,960-foot-long power tunnel located in the left abutment of the dam that transitions from an 18-foot concrete-lined section to a 16-foot steel-lined section; (6) the 21-foot-high, 12-foot-wide emergency closure fixed-wheel gate; (7) a powerhouse located immediately downstream of the dam containing a 72-inch hollow jet valve and four Francis turbine-generator units with a nameplate capacity of 168 megawatts; (8) the switchyard located on top of the powerhouse; (9) the 75-foot-high earth and rockfill Gasburg Creek dike with a slide-gate controlled 18-inch-diameter conduit located near the downstream end of the spillway; (10) three small embankments dikes (dike A is located between the main dam and spillway and dikes B and C are located east of the main dam); (11) recreation facilities on Don Pedro reservoir, including Fleming Meadows, Blue Oaks, and Moccasin Point, primitive and semi-primitive lakeshore camping, both floating and shoreline restrooms in addition to those at the developed recreation areas, and other open water-based features including houseboat marinas and a marked water-ski slalom course; and (12) appurtenant facilities and features including access roads.

l. Locations of the Application: A copy of the application is available for review at the Commission in the Public Reference Room or may be viewed on the Commission's Web site at http://www.ferc.gov using the “eLibrary” link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | May 2016.
Filing of recommendations, preliminary terms and conditions, and fishway prescriptions | July 2016.
Commission issues Draft Environmental Impact Statement (EIS) | January 2017.
Comments on Draft EIS | February 2017.
Modified Terms and Conditions | April 2017.
Commission Issues Final EIS | July 2017.

o. Final amendments to the application must be filed with the Commission no later than 30 days from the issuance date of the Notice of Ready for Environmental Analysis.

Dated: May 9, 2014.
Kimberly D. Bose,
Secretary.

[FR Doc. 2014-11265 Filed 5-15-14; 8:45 am]

BILLING CODE 6717-01-P